DEPARTMENT OF VETERANS AFFAIRS

[OMB Control No. 2900-New (26-8261a)]

Agency Information Collection (Request for Certificate of Veteran Status) Activities Under OMB

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATE: Comments must be submitted on or before December 31, 2009.

ADDRESSES: Submit written comments on the collection of information through http://www.Regulations.gov or to VA's OMB Desk Officer, OMB Human Resources and Housing Branch, New Executive Office Building, Room 10235, Washington, DC 20503; (202) 395-7316. Please refer to “OMB Control No. 2900-New (26-8261a)” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@mail.va.gov. Please refer to “OMB Control No. 2900-New (26-8261a).”

SUPPLEMENTARY INFORMATION: Title: Request for Certificate of Veteran Status, VA Form 26-8261a.

OMB Control Number: 2900-New (26-8261a).

Type of Review: New collection.

Abstract: The data collected on VA Form 26-8261a will be used to determine Veteran applicants' eligibility to receive a reduced down payment on a Federal Housing Administration (FHA) backed loan.

An agency may not conduct or sponsor, and a person is not required to respond to a collection of information unless it displays a currently valid OMB control number. The Federal Register Notice with a 60-day comment period soliciting comments on this collection of information was published on September 16, 2009, at page 47645.

Affected Public: Individuals or households.

Estimated Annual Burden: 17 hours.

Estimated Average Burden Per Respondent: 10 minutes.

Frequency of Response: One time.

Estimated Number of Respondents: 100.

Dated: November 25, 2009.
By direction of the Secretary.
Denise McLamb,
Program Analyst, Enterprise Records Service.

[FR Doc. E9-28632 Filed 11-30-09; 8:45 am]

BILLING CODE 8320-01-P